DEPARTMENT OF THE TREASURY

Internal Revenue Service

Open Meeting of the Small Business/Self Employed-Taxpayer Burden Reduction Issue Committee of the Taxpayer Advocacy Panel

AGENCY: Internal Revenue Service (IRS), Treasury.

ACTION: Cancellation notice.

SUMMARY: An open meeting of the Small Business/Self Employed-Taxpayer Burden Reduction Issue Committee of the Taxpayer Advocacy Panel has been cancelled (via teleconference). The Taxpayer Advocacy Panel is soliciting public comments, ideas and suggestions on improving customer service at the Internal Revenue Service.

DATES: The meeting that was scheduled Tuesday, July 11, 2006 from 3:30 p.m. to 4:30 p.m. ET has been cancelled.

FOR FURTHER INFORMATION CONTACT: Marisa Knispel at 1-888-912-1227 or 718-488-3557.

SUPPLEMENTARY INFORMATION: Notice is hereby given pursuant to section 10(a)(2) of the Federal Advisory Committee Act, 5 U.S.C. App. (1988) that an open meeting of the Small Business/Self Employed-Taxpayer Burden Reduction Issue Committee of the Taxpayer Advocacy Panel was cancelled for Tuesday, July 11, 2006, for 3:30 p.m. ET via a telephone conference call as published in the Federal Register on June 19, 2006. If you would like to have the TAP consider a written statement, please call 1-888-912-1227 or 718-488-3557 or write Marisa Knispel, TAP Office, 10 Metro Tech Center, 625 Fulton Street, Brooklyn, NY 11201. You may also post comments to the Web site: http://www.improveirs.org.

Dated: June 21, 2006.
John Fay,
Acting Director, Taxpayer Advocacy Panel.

[FR Doc. E6-10130 Filed 6-27-06; 8:45 am]

BILLING CODE 4830-01-P